DEPARTMENT OF COMMERCE

Bureau of the Census

15 CFR Part 30

[Docket Number 041029301-5119-02]

RIN 0607-AA44

Requirement for Reporting the Kimberley Process Certificate Number for Exports and Reexports of Rough Diamonds

AGENCY: Bureau of the Census, Commerce Department.

ACTION: Final rule.

SUMMARY: The U.S. Census Bureau (Census Bureau) is amending the Foreign Trade Statistics Regulations (FTSR) to incorporate the requirement that the Kimberley Process Certificate (KPC) number for the exports and the reexports of rough diamonds be filed through the Automated Export System (AES). This rule serves to carry out the purposes of Executive Order 13312 of July 29, 2003, which implemented the Clean Diamond Trade Act and the Kimberley Process Certification Scheme in the United States.

DATES: This rule is effective June 15, 2005.

FOR FURTHER INFORMATION CONTACT: C. Harvey Monk, Jr., Chief, Foreign Trade Division, U.S. Census Bureau, Room 2104, Federal Building 3, Washington, DC 20233-6700; by phone at (301) 763-2255; by fax at (301) 457-2645; or by e-mail: c.harvey.monk.jr@census.gov.

SUPPLEMENTARY INFORMATION: In the January 12, 2005 Federal Register, 70 FR 2072, the Census Bureau published a notice of proposed rulemaking and request for comments for a requirement that the KPC number for exports and reexports of rough diamonds be filed through the AES. Public comments were requested through February 11, 2005. The Census Bureau did not receive any comments on the proposed rule. This final rule adopts the measures contained in the proposed rule.

This final rule amends 15 CFR part 30 by revising § 30.63 of the FTSR to specify the requirement for reporting the KPC number via the AES for exports and reexports of rough diamonds. On July 29, 2003, the President issued Executive Order 13312, which implemented Public Law 108-19, known as the Clean Diamond Trade Act (the Act). The Act implemented the Kimberley Process in the United States by authorizing the President to prohibit the importation into or the exportation from the United States of any rough diamond, from whatever source, unless the rough diamond is controlled through the Kimberley Process Certification Scheme, as defined in the Act. Pursuant to the Act, shipments of rough diamonds between the United States and nonparticipants in the Kimberley Process are prohibited, and shipments between the United States and participants are permitted only if they are handled in accordance with the standards, practices, and procedures of the Kimberley Process set forth in the Rough Diamonds Control Regulations, 31 CFR part 592, promulgated by the Department of the Treasury's Office of Foreign Assets Control (OFAC) (see 69 FR 56936 dated September 23, 2004).

Section 6 of the Act names the Census Bureau as the exporting authority for the United States. This requires the Census Bureau to validate the KPC for exports of rough diamonds. The KPC is a forgery-resistant document of a participant nation or entity that demonstrates that an exportation of rough diamonds has been controlled through the Kimberley Process and contains the minimum elements required by OFAC regulations (Title 31 CFR part 592). Each KPC is assigned an identification number called the KPC number.

To comply with the requirements of the Act, the Census Bureau amended the FTSR on October 20, 2003, to incorporate requirements for the mandatory electronic filing via the AES of exports of rough diamonds. The Census Bureau is now amending the FTSR to require the reporting through AES of the KPC number found on the KPC for all exports of rough diamonds classified under Harmonized System subheadings 7102.10, 7102.21, and 7102.31. This requirement will not affect filers of Shipper's Export Declarations since all exports of rough diamonds are required to be filed through the AES.

Shipments of rough diamonds from the United States must also meet additional Department of the Treasury requirements identified in the Office of Foreign Assets Control's Rough Diamonds Control Regulations, title 31 CFR part 592.

Executive Order 12866

This final rule has been determined to be not significant for purposes of E.O. 12866.

Executive Order 13132

This final rule does not contain policies with Federalism implications, as that term is defined in E.O. 13132.

Paperwork Reduction Act

The collection of information required in this final rule has been approved by the Office of Management and Budget under the Paperwork Reduction Act (PRA). This rule contains a collection-of-information subject to the requirements of the PRA (44 U.S.C. 3501 et seq.), which has been approved under OMB control number 0607-0152. The reporting and recordkeeping burden for this requirement is estimated at 10 total burden hours. Notwithstanding any other provision of law, no person is required to respond to, nor shall a person be subject to a penalty for failure to comply with, a collection of information subject to the requirements of the Paperwork Reduction Act (PRA), unless that collection of information displays a current, valid Office of Management and Budget (OMB) control number.

Regulatory Flexibility Act

The Chief Counsel for Regulation of the Department of Commerce, certified to the Chief Counsel for Advocacy, Small Business Administration, under the provisions of the Regulatory Flexibility Act (5 U.S.C. 605 (b)), that this rule will not have a significant economic impact on a substantial number of small entities. The factual basis for this certification was published with the proposed rule. No comments were received regarding the economic impact of this final rule. As a result, no final regulatory flexibility analysis was prepared.

List of Subjects in 15 CFR Part 30

Economic statistics, Foreign trade, Exports, and Reporting and recordkeeping requirements.

For the reasons set out in the preamble, title 15 CFR part 30, is amended as follows:

PART 30—FOREIGN TRADE STATISTICS

1. The authority citation for part 30 is revised to read as follows:

Authority: 5 U.S.C. 301; 13 U.S.C. 301-307; 19 U.S.C. 3901-3913; Reorganization Plan 5 of 1950 (3 CFR 1949-1953 Comp., 1004); Executive Order 13312, Implementing the Clean Diamond Act, 68 FR 45151 (31 CFR Part 592); and Department of Commerce Organization Order No. 35-2A, July 22, 1987, as amended, and No. 35-2B, December 20, 1996, as amended.

Subpart E—Electronic Filing Requirements—Shipper's Export Information

2. In § 30.63, add a paragraph (b)(22) to read as follows:

§ 30.63 Information required to be reported electronically through AES (data elements).

* * * * *

(b) * * *

(22) Kimberley Process Certificate (KPC) number. The unique identifying number of the KPC issued by the United States Kimberley Process Authority that must accompany any export shipment of rough diamonds. Rough diamonds are classified under 6-digit Harmonized System subheadings 7102.10, 7102.21, and 7102.31. Enter the KPC number in the license number field excluding the 2-digit U.S. ISO country code.

* * * * *

Dated: May 10, 2005.
Charles Louis Kincannon,
Director, Bureau of the Census.

[FR Doc. 05-9629 Filed 5-13-05; 8:45 am]

BILLING CODE 3510-07-P